Title 3—

The President

Executive Order 14204 of February 7, 2025

Addressing Egregious Actions of the Republic of South Africa

By the authority vested in me as President by the Constitution and the laws of the United States of America, it is hereby ordered as follows:

Section 1. Purpose. In shocking disregard of its citizens' rights, the Republic of South Africa (South Africa) recently enacted Expropriation Act 13 of 2024 (Act), to enable the government of South Africa to seize ethnic minority Afrikaners' agricultural property without compensation. This Act follows countless government policies designed to dismantle equal opportunity in employment, education, and business, and hateful rhetoric and government actions fueling disproportionate violence against racially disfavored landowners.

In addition, South Africa has taken aggressive positions towards the United States and its allies, including accusing Israel, not Hamas, of genocide in the International Court of Justice, and reinvigorating its relations with Iran to develop commercial, military, and nuclear arrangements.

The United States cannot support the government of South Africa's commission of rights violations in its country or its ‘undermining United States foreign policy, which poses national security threats to our Nation, our allies, our African partners, and our interests.

Sec. 2. Policy. It is the policy of the United States that, as long as South Africa continues these unjust and immoral practices that harm our Nation:

(a) the United States shall not provide aid or assistance to South Africa; and

(b) the United States shall promote the resettlement of Afrikaner refugees escaping government-sponsored race-based discrimination, including racially discriminatory property confiscation.

Sec. 3. Assistance. (a) All executive departments and agencies (agencies), including the United States Agency for International Development, shall, to the maximum extent allowed by law, halt foreign aid or assistance delivered or provided to South Africa, and shall promptly exercise all available authorities and discretion to halt such aid or assistance.

(b) The head of each agency may permit the provision of any such foreign aid or assistance that, in the discretion of the relevant agency head, is necessary or appropriate.

Sec. 4. Refugee Resettlement and Other Humanitarian Considerations. The Secretary of State and the Secretary of Homeland Security shall take appropriate steps, consistent with law, to prioritize humanitarian relief, including admission and resettlement through the United States Refugee Admissions Program, for Afrikaners in South Africa who are victims of unjust racial discrimination. Such plan shall be submitted to the President through the Assistant to the President and Homeland Security Advisor.

Sec. 5. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

February 7, 2025.

[FR Doc. 2025-02630

Filed 2-11-25; 11:15 am]

Billing code 3395-F4-P